LEGAL SERVICES CORPORATION

Notice of Availability of Calendar Year 2011 Competitive Grant Funds

AGENCY: Legal Services Corporation.

ACTION: Solicitation for Proposals for the Provision of Civil Legal Services in Louisiana for service area LA-1.

SUMMARY: The Legal Services Corporation (LSC) is the national organization charged with administering Federal funds provided for civil legal services to low-income people. LSC hereby announces the availability of competitive grant funds for the provision of a full range of civil legal services to eligible clients in Louisiana for service area LA-1. Grants will be awarded on or around June 2011. The estimated annualized grant amount for service area LA-1 in Louisiana is: $1,629,216. Service area LA-1 comprises the following parishes/counties in Louisiana: Ascension Parish, Assumption Parish, East Baton Rouge Parish, East Feliciana Parish, Iberville Parish, Lafourche Parish, Pointe Coupee Parish, St. James Parish, St. John the Baptist Parish, Terrebonne Parish, West Baton Rouge Parish, and West Feliciana Parish.

DATES: See SUPPLEMENTARY INFORMATION section for grants competition dates.

ADDRESSES: Legal Services Corporation—Competitive Grants, 3333 K Street, NW., Third Floor, Washington, DC 20007-3522.

FOR FURTHER INFORMATION CONTACT: Reginald Haley, Office of Program Performance, 202.295.1545.

SUPPLEMENTARY INFORMATION: The Request for Proposals (RFP) is available at http://www.grants.lsc.gov. Once at the Web site, click on FY 2011 Request for Proposals Narrative Instruction to access the RFP and other information pertaining to the LSC competitive grants process. Refer to the RFP for instructions on preparing the grant proposal; the regulations and guidelines governing LSC funding; the definition of a full range of legal services; and grant proposal submission requirements.

Applicants must file a Notice of Intent to Compete (NIC; RFP Form-H) to participate in the competitive grants process. The deadline for filing the NIC is February 7, 2011, 5 p.m. E.D.T. The deadline for filing grant proposals is March 14, 2011, 5 p.m. E.D.T. The dates shown in this notice for filing the NIC and the grant proposals supersede the dates in the RFP. All other instructions, regulations, guidelines, definitions, and grant proposal submission requirements remain in effect unless otherwise noted.

The following persons, groups, and entities are qualified Applicants who may submit a NIC and a grant proposal to participate in the competitive grants process: (1) Current recipients of LSC grants; (2) non-profit organizations that have as a purpose the provision of legal assistance to eligible clients; (3) private attorneys, groups of attorneys or law firms; (4) state or local governments; and (5) sub-state regional planning and coordination agencies that are composed of sub-state areas and whose governing boards are controlled by locally elected officials.

LSC will not fax the RFP to interested parties. Interested parties are asked to visit http://www.grants.lsc.gov regularly for updates and correction notices pertaining to the LSC competitive grants process.

Dated: January 5, 2011.
Janet LaBella,
Director, Office of Program Performance, Legal Services Corporation.

[FR Doc. 2011-278 Filed 1-10-11; 8:45 am]

BILLING CODE 7050-01-P